DEPARTMENT OF STATE

[Public Notice:12164]

Notice of Public Meeting of the U.S. President's Emergency Plan for AIDS Relief (PEPFAR) Scientific Advisory Board

SUMMARY: In accordance with the Federal Advisory Committee Act, the U.S. Department of State announces that the PEPFAR Scientific Advisory Board (SAB) will hold a virtual meeting of the full board. The meeting is open to the public and a public comment session will be held during the meeting. Pre-registration is required for providing public comment.

DATES: The meeting will be held virtually Monday, October 2, 2023, from approximately 9:00 a.m. to 3:00 p.m. (EDT) using a web-based virtual platform. Requests to attend the meeting must be received no later than September 25, 2023. Requests for reasonable accommodations or to provide public comment must be received no later than September 25, 2023.

ADDRESSES: The meeting will be held virtually via web-based virtual platform. Individuals are asked to pre-register here: https://statedept.zoomgov.com/meeting/register/vJItduChrTkrHOg_6xa7hBM0O6nxJptBtAc. The agenda will be sent to all registrants and will also be posted on the PEPFAR SAB web page (https://www.state.gov/scientific-advisory-board-pepfar/) one week in advance of the meeting, along with instructions on how to access the meeting.

FOR FURTHER INFORMATION CONTACT: Dr. Mike Reid, Chief Science Officer for PEPFAR, at reidmj@state.gov, and Dr. Nicole Espy, designated federal officer for the SAB, Bureau of Global Health Security and Diplomacy, U.S. Department of State, at espynj@state.gov or (202) 288-1702.

SUPPLEMENTARY INFORMATION:

Background: The SAB is established under the general authority of the Secretary of State and the Department of State (“the Department”) as set forth in title 22 of the United States Code as amended, in particular section 2656 of that title, and consistent with the Federal Advisory Committee Act, as amended (5 U.S.C. 1001 et seq). The SAB serves the U.S. Global AIDS Coordinator solely in an advisory capacity concerning scientific, implementation, and policy issues related to the global response to HIV/AIDS.

Agenda: SAB members will be discussing the management of non-communicable diseases (NCDs) among people with HIV, and integration of NCD with HIV programming; updates in HIV prevention science, and roll out of long-acting cabotegravir (CAB-LA); and PEPFAR 2023 strategic updates and the launch of the new Bureau of Global Health Security and Diplomacy (GHSD):

• Relevance of management of cardiovascular disease in HIV care;

• Integration of NCD care into HIV programs;

• Updates on prevention science;

• Updates on launch of GHSD bureau and impact on PEPFAR's mandate and programs.

Registered members of the public will be permitted to participate in a comment period at the end of the meeting in accordance with the chair's instructions.

Public Participation: Members of the public who wish to participate are asked to register directly at the link listed in the ADDRESSES section or by sending an email to Ms. Crystal Solomon at SolomonCD@state.gov no later than September 25, 2023. Individuals are required to provide their name, email address, and organization. At registration, individuals are also asked to indicate any request for reasonable accommodation and/or a request to provide public comment. Time for public comment may be limited. Requests made after September 25, 2023, will be considered but might not be able to be fulfilled.

Nicole J. Espy,
Research and Technical Advisor, Office of Research and Science, Bureau of Global Health Security and Diplomacy, Department of State.

[FR Doc. 2023-19019 Filed 9-1-23; 8:45 am]

BILLING CODE 4710-10-P